DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and the United States Fish and Wildlife Service.

SUMMARY: The FHWA, on behalf of Caltrans, is issuing this notice to announce actions taken by Caltrans, and USFWS. The actions relate to a proposed highway project on Interstate 10 (I-10), the I-10/Avenue 50 New Interchange Project, located in the eastern portion of the City of Coachella in the County of Riverside, State of California. The proposed interchange is located approximately 3.4 miles east of the existing I-10/Dillon Road interchange, and approximately 9.1 miles west of the existing Cactus City Safety Road Rest Area. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 25, 2018. If the Federal law that authorizes judicial review of a claim provides a time period of less than 150 days for filing such claim, then that shorter time period still applies.

FOR FURTHER INFORMATION CONTACT: For Caltrans: James Shankel, Senior Environmental Planner, Environmental Studies “C” Branch Chief, California Department of Transportation District 8, Division of Environmental Planning, 464 West 4th Street, 6th Floor, MS 827, San Bernardino, California, 92401-1400, during normal business hours from 8:00 a.m. to 5:00 p.m., telephone (909) 383-6379, or email james.shankel@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans and USFWS have taken final agency actions subject to 23 U.S.C. 139(l)(1) by issuing licenses, permits, and approvals for the following highway project in the State of California: The Interstate 10/Avenue 50 New Interchange Project would construct a new interchange at Interstate 10 (I-10) and Avenue 50, from Post Mile (PM) R62.3 to R63.7, in the eastern portion of the City of Coachella, in the County of Riverside. The proposed I-10/Avenue 50 interchange is located approximately 3.4 miles east of the existing I-10/Dillon Road interchange (PM 58.9) and approximately 9.1 miles west of the existing Cactus City Safety Road Rest Area (PM R72.2). Project construction is scheduled to begin in 2019. The project has an opening year/completion date of 2020. The purpose of the project is to provide a new regional access point with I-10 for the City of Coachella and eastern Coachella Valley as identified in the City of Coachella's General Plan, to address anticipated increased traffic demand on the regional transportation system, and to provide access to approved development. The project is included in the Southern California Association of Government's (SCAG's) 2016 Regional Transportation Plan titled 2016-2040 Regional Transportation Plan/Sustainable Communities Strategy (2016-2040 RTP/SCS): A Plan for Mobility, Accessibility, Sustainability and a High Quality of Life, identified as RTP ID RIV030901. The project is also listed in SCAG's financially constrained 2017 Federal Transportation Improvement Program (2017 FTIP), currently including Amendments 1-15, for fiscal years FY 2016/2017—2021/2022 as a State Highway Project, with project ID RIV030901. The actions by the Federal agencies, and the laws under which such actions were taken, are described in the Environmental Assessment (EA) with a Finding of No Significant Impact (FONSI) for the project, approved on October 30, 2017, and in other documents in the project records. The EA/FONSI, and other project records are available by contacting Caltrans at the address provided above. This notice applies to all Federal agency decisions as of the issuance date of this notice and all laws under which such actions were taken, including but not limited to:

1. General: National Environmental Policy Act (NEPA) (42 U.S.C. 4321-4351);

2. Federal Aid Highway Act of 1970;

3. Safe, Accountable, Flexible, Efficient Transportation Equity Act: A Legacy of Users (SAFETEA-LU), PL 109-59;

4. Moving Ahead for Progress in the 21st Century Act (MAP-21), PL 112-141;

5. Fixing America's Surface Transportation Act (FAST Act), PL 114-94;

6. Title VI of the Civil Rights Act of 1964, as amended;

7. Clean Air Act Amendments of 1990;

8. Noise Control Act of 1979;

9. 23 CFR part 772 FHWA Noise Standards, Policies and Procedures;

10. Department of Transportation Act of 1966, Section 4(f);

11. Clean Water Act of 1977 and 1987;

12. Endangered Species Act of 1973;

13. Migratory Bird Treaty Act;

14. National Historic Preservation Act of 1966, as amended;

15. Historic Sites Act of 1935;

16. Executive Order 11990—Protection of Wetlands;

17. Executive Order 12898—Environmental Justice;

18. Executive Order 13112—Invasive Species;

19. Executive Order 11988—Floodplain Management;

20. Uniform Relocation Assistance and Real Property Acquisition Act of 1970;

(Catalog of Federal Domestic Assistance Program Number 20.205, Highway Planning and Construction. The regulations implementing Executive Order 12372 regarding intergovernmental consultation on Federal programs and activities apply to this program.)

Authority: 23 U.S.C. 139(l)(1).

Shawn Oliver,
Env/ROW Team Leader Transportation, Engineer, Federal Highway Administration, Sacramento, California.

[FR Doc. 2018-01316 Filed 1-23-18; 8:45 am]

BILLING CODE 4910-RY-P